DEPARTMENT OF COMMERCE

National Oceanic and Atmospheric Administration

50 CFR Part 679

[Docket No. 250331-0057; RTID 0648-XE507]

Fisheries of the Exclusive Economic Zone off Alaska; Cook Inlet; Proposed 2025 Harvest Specifications for Salmon

AGENCY: National Marine Fisheries Service (NMFS), National Oceanic and Atmospheric Administration (NOAA), Commerce.

ACTION: Proposed rule; harvest specifications and request for comments.

SUMMARY: NMFS proposes 2025 harvest specifications for the salmon fishery of the Cook Inlet exclusive economic zone (EEZ) Area. This action is necessary to establish harvest limits for salmon during the 2025 fishing year and to accomplish the goals and objectives of the Fishery Management Plan for Salmon Fisheries in the EEZ off Alaska (Salmon FMP). The intended effect of this action is to conserve and manage the salmon resources in Cook Inlet EEZ Area in accordance with the Magnuson-Stevens Fishery Conservation and Management Act (Magnuson-Stevens Act).

DATES: Comments must be received by May 5, 2025.

ADDRESSES: A plain language summary of this proposed rule is available at https://www.regulations.gov/docket/NOAA-NMFS-2025-0017. You may submit comments on this document, identified by NOAA-NMFS-2025-0017, by any of the following methods:

• Electronic Submission: Submit all electronic public comments via the Federal e-Rulemaking Portal. Visit https://www.regulations.gov and type NOAA-NMFS-2025-0017 in the Search box. Click on the “Comment” icon, complete the required fields, and enter or attach your comments.

• Mail: Submit written comments to Gretchen Harrington, Assistant Regional Administrator, Sustainable Fisheries Division, Alaska Region, NMFS. Mail comments to P.O. Box 21668, Juneau, AK 99802-1668.

Instructions: Comments sent by any other method, to any other address or individual, or received after the end of the comment period may not be considered by NMFS. All comments received are a part of the public record and will generally be posted for public viewing on https://www.regulations.gov without change. All personal identifying information (e.g., name, address, etc.), confidential business information, or otherwise sensitive information submitted voluntarily by the sender will be publicly accessible. NMFS will accept anonymous comments (enter “N/A” in the required fields if you wish to remain anonymous).

Electronic copies of the draft Environmental Assessment for the Harvest Specifications of the Cook Inlet Salmon Fisheries in the EEZ Off Alaska (EA); and the draft Finding of No Significant Impact prepared for this action are available from https://www.regulations.gov. The Environmental Assessment (EA)/Regulatory Impact Review for amendment 16 (A16 EA/RIR) to the Salmon FMP are available from the NMFS Alaska Region website at https://www.fisheries.noaa.gov/action/amendment-16-fmp-salmon-fisheries-alaska. A preliminary version of the Stock Assessment and Fishery Evaluation (SAFE) was presented at the February 2025 North Pacific Fishery Management Council (Council) and NMFS incorporated the recommendations of the Council's Scientific and Statistical Committee (SSC) and posted the final SAFE at https://www.fisheries.noaa.gov/alaska/population-assessments/alaska-stock-assessments.

FOR FURTHER INFORMATION CONTACT: Adam Zaleski, 907-206-5802, adam.zaleski@noaa.gov.

SUPPLEMENTARY INFORMATION: NMFS prepared the Salmon FMP under the authority of the Magnuson-Stevens Act (16 U.S.C. 1801 et seq.). Regulations governing U.S. fisheries and implementing the Salmon FMP appear at 50 CFR parts 600 and 679.

The proposed harvest specifications include catch limits that NMFS could implement—subject to further consideration after public comment. Regulations at 50 CFR 679.118(b) require that NMFS consider public comment on the proposed harvest specifications and publish the final harvest specifications in the Federal Register. The final harvest specifications will take effect only after publication of a final rule for the instant action. NMFS would publish the final 2025 harvest specifications after: (1) considering comments received within the comment period (see DATES); (2) considering information presented in the draft EA (see ADDRESSES); and (3) considering information presented in the final 2025 SAFE report prepared for the 2025 Cook Inlet EEZ Area salmon fisheries. See 50 CFR 679.118(b)(2) for additional considerations regarding the final harvest specifications.

Proposed 2025 Overfishing Limit (OFL), Acceptable Biological Catch (ABC), and Total Allowable Catch (TAC) Specifications

NMFS compiled and presented the preliminary 2025 SAFE report for the Cook Inlet EEZ Area salmon stocks and stock complexes, dated January 2025 (see ADDRESSES) at the February Council meeting. The SAFE report contains a review of the latest scientific analyses and estimates of biological parameters for seven stocks of Pacific salmon and provides recommendations to the SSC regarding the appropriate tiers for each stock, the status determination criteria (SDC) that will be used to evaluate overfishing (including OFL), and the appropriate ABC, which acts as a ceiling when NMFS specifies TACs.

The Salmon FMP specifies methods to calculate OFLs and ABCs for each stock's tier in the Cook Inlet EEZ salmon fishery, with annual tier recommendations provided in the SAFE report. The tiers applicable to a particular stock or stock complex are determined by the level of reliable information available. Tier 1 stocks have the highest level of information quality available, while Tier 3 stocks have the lowest level of information quality available. NMFS uses this tier structure to calculate OFLs and ABCs for each salmon stock or stock complex (a stock complex is an aggregate of multiple stocks of a species) according to the methods specified in the Salmon FMP.

For Tier 1 stocks, as defined in the Salmon FMP, the SAFE report relies on forecasts of the coming year's salmon runs as the basis for the recommended OFLs and ABCs, which are included in the 2025 SAFE report. For Tier 1 stocks, SDC and harvest specifications are calculated in terms of potential yield for the Cook Inlet EEZ Area. The potential yield is the total forecasted run size minus the number of salmon required to achieve spawning escapement targets and the estimated mortality from other sources including in other fisheries.

For 2025, no stocks were recommended to be Tier 2.

For Tier 3 stocks, as defined in the Salmon FMP, NMFS used fishery catch estimates from prior years to inform the 2025 harvest specifications.

The SSC and Council reviewed NMFS's preliminary 2025 SAFE report for the Cook Inlet EEZ Area salmon fishery in February 2025. From these data and analyses, the SSC recommended an OFL and ABC for each salmon stock and stock complex. After considering the SSC's recommendations, the Council unanimously took action to recommend TACs for the Cook Inlet EEZ Area salmon fishery. Through this action, NMFS is proposing to implement the OFLs and ABCs recommended by the SSC and TACs consistent with the Council's recommendations.

Following the February Council meeting, NMFS updated the 2025 SAFE report to incorporate SSC recommendations (see ADDRESSES). The proposed specifications are based on SSC recommendations contained in the final 2025 SAFE report, which represents the best scientific information available on the biological condition of salmon stocks in Cook Inlet and other social and economic considerations.

NMFS is required to publish and solicit public comment on proposed annual specifications as soon as practicable after consultation with the Council (see 50 CFR 679.118(b)(1)) and the proposed harvest specifications in table 1 of this rulemaking satisfy these requirements. The recommended specifications of OFL, ABC, and TAC are consistent with the harvest strategy outlined in the Salmon FMP, the biological condition of salmon as described in the 2025 SAFE report, SSC and Council recommendations, and the Magnuson-Stevens Act, including the National Standards. The recommended ABCs would be less than the OFLs for each stock or stock complex and the TACs would be set equal to the aggregate ABCs for each species (table 1). Because it is not practicable to differentiate among stocks of the same species during the fishing season, NMFS will rely on its experience managing the fishery in 2024 and its inseason management tools to ensure ABC is not exceeded for any stock or stock complex.

The proposed 2025 OFLs, ABCs, and TACs are based on the best scientific information available—primarily the 2025 SAFE report. The SAFE report was subject to peer review by the SSC, which recommended the ABCs that NMFS proposes in table 1, consistent with 50 CFR 600.310(f)(3) and 600.315(c) through (d). The proposed TACs are set equal to the proposed ABCs and are less than the OFLs for all salmon stocks or stock complexes. These proposed OFLs, ABCs, and TACs are subject to change pending consideration of public comment.

Table 1—Proposed 2025 Cook Inlet EEZ Area Salmon OFLs, ABCs, and TACs in Numbers of Fish
Stock or stock complex ¹ | OFL | ABC | TAC
Kenai River Late-Run sockeye salmon | 514,761 | 360,332 | 800,126
Kasilof River sockeye salmon | 664,294 | 285,646
Aggregate Other sockeye salmon | 181,351 | 154,148
Aggregate Chinook salmon | 373 | 261 | 261
Aggregate coho salmon | 67,013 | 16,753 | 16,753
Aggregate chum salmon | 97,508 | 78,006 | 78,006
Aggregate pink salmon | 58,174 | 52,357 | 52,357
¹ The TAC for sockeye salmon is combined for Kenai River Late-Run, Kasilof River, and Aggregate Other sockeye salmon because it is not possible to differentiate among stocks of sockeye at the time they are caught.

Directed Fishing Closures and Inseason Adjustments

In accordance with 50 CFR 679.118(c)(1)(i), NMFS will prohibit fishing for salmon in the Cook Inlet EEZ Area if NMFS determines that any salmon TAC has been or may be reached for any salmon species or stock. NMFS may also make adjustments to a TAC for any salmon species or stock, or open or close a season, in the Cook Inlet EEZ Area, if necessary to prevent overfishing among other reasons, consistent with 50 CFR 679.25. Changes to the salmon fisheries in the Cook Inlet EEZ Area will be posted at the following website under the Alaska filter for Management Areas: https://www.fisheries.noaa.gov/news-and-announcements/bulletins.

Classification

NMFS is issuing this proposed rule pursuant to section 305(d) of the Magnuson-Stevens Act. Through previous actions, the Salmon FMP and regulations are designed to authorize NMFS to take this action (see 50 CFR 679.118). The NMFS Assistant Administrator has determined that this proposed rule is consistent with the Magnuson-Stevens Act, the Salmon FMP, and other applicable laws, subject to further consideration after public comment.

This action is exempt from review under Executive Order 12866 because it only implements annual catch limits for the Cook Inlet EEZ Area salmon fishery.

NMFS prepared the draft EA for the 2025 harvest specifications of the Cook Inlet EEZ Area salmon fishery, which incorporates by reference the EA/RIR for amendment 16 to the Salmon FMP (see ADDRESSES). These analyses evaluate the potential environmental and socioeconomic impacts of three alternative catch limits for the Cook Inlet EEZ Area salmon fishery, as is consistent with the National Environmental Policy Act.

Initial Regulatory Flexibility Analysis

This Initial Regulatory Flexibility Analysis (IRFA) was prepared for this proposed rule, as required by section 603 of the Regulatory Flexibility Act (RFA) (5 U.S.C. 603), to describe the economic impact that this proposed rule, if adopted, would have on small entities.

The IRFA: (1) describes the action; (2) the reasons why this proposed rule is proposed; (3) the objectives and legal basis for this proposed rule; (4) the estimated number and description of directly regulated small entities to which this proposed rule would apply; (5) the recordkeeping, reporting, and other compliance requirements of this proposed rule; and (6) the relevant Federal rules that may duplicate, overlap, or conflict with this proposed rule. The IRFA also describes significant alternatives to this proposed rule that would accomplish the stated objectives of the Magnuson-Stevens Act, and any other applicable statutes, and that would minimize any significant economic impact of this proposed rule on small entities. The description of the proposed action, its purpose, and the legal basis are explained earlier in the preamble and are not repeated here.

For RFA purposes only, NMFS has established a small business size standard for businesses, including their affiliates, whose primary industry is commercial fishing (see 50 CFR 200.2). A business primarily engaged in commercial fishing (North American Industry Classification System (NAICS) code 11411) is classified as a small business if it is independently owned and operated, is not dominant in its field of operation (including its affiliates), and has combined annual gross receipts not in excess of 11 million dollars for all its affiliated operations worldwide. In addition, the Small Business Administration has established a small business size standard applicable to charter fishing vessels (NAICS code 713990) of 9 million dollars.

Number and Description of Small Entities Regulated by This Proposed Rule

This proposed rule directly regulates commercial salmon fishing vessels that operate in the Cook Inlet EEZ Area, and charter guides and charter businesses fishing for salmon in the Cook Inlet EEZ Area. Because NMFS expects the State of Alaska to maintain current requirements for commercial salmon fishing vessels landing any salmon in upper Cook Inlet to hold a Commercial Fisheries Entry Commission (CFEC) drift gillnet (S03H) permit, NMFS does not expect participation from non-S03H permit holders in the federally-managed salmon fishery in the Cook Inlet EEZ Area. Therefore, the number of S03H permit holders represents the maximum number of directly regulated entities for the commercial salmon fishery in the Cook Inlet EEZ Area. From 2019 to 2023, there was an average of 552 S03H permits in circulation, with an average of 311 active permit holders, all of which are considered small entities based on the 11 million dollar threshold. The evaluation of the number of directly regulated small entities and their revenue was conducted via custom query by staff of the Alaska Fish Information Network utilizing both ADF&G and Fish Ticket revenue data and the CFEC permits database. Similarly, the draft EA provides the most recent tabulation of commercial charter vessels that could potentially fish for salmon within the Cook Inlet EEZ Area (see ADDRESSES).

The commercial fishing entities directly regulated by the salmon harvest specifications are the entities operating vessels with Salmon Federal Fisheries Permits (SFFPs) catching salmon in Federal waters. For purposes of this analysis, NMFS assumes that the number of small entities with SFFPs that are directly regulated by the salmon harvest specifications is the average number of S03H permits in circulation (i.e., 552 permits). This may be an overstatement of the number of directly-regulated small entities since some entities may hold more than one permit.

The commercial charter fishing entities directly regulated by the salmon harvest specifications are the entities that hold commercial charter licenses and that choose to fish for salmon in the Cook Inlet EEZ Area where these harvest specifications will apply. Salmon charter operators are required to register with the State of Alaska annually and the numbers of registered charter operators in the Cook Inlet area varies. Available data indicates that, from 2017 to 2022, the total number of directly regulated charter vessel small entities that have participated in the Cook Inlet EEZ Area has been as high as 377. However, from 2019 to 2022, there was an average of 94 charter guides that fished for salmon at least once in the Cook Inlet EEZ Area. All of these entities, if they choose to fish in the Cook Inlet EEZ Area, are directly regulated by this action and all are considered small entities based on the 9 million dollar threshold.

Description of Significant Alternatives That Minimize Adverse Impacts on Small Entities

The action under consideration is the proposed 2025 harvest specifications for the Cook Inlet EEZ Area salmon fishery. This action is necessary to establish harvest limits for Cook Inlet salmon harvested within the EEZ during the 2025 fishing years and is taken in accordance with the Salmon FMP and pursuant to the Magnuson-Stevens Act. The establishment of the harvest specifications is governed by the process for determining harvest levels for salmon in the Cook Inlet EEZ Area in the Salmon FMP and regulations. Under this process, harvest specifications typically will be made annually for specifying the OFL, ABC, and TAC for each salmon stock or stock complex. This includes identifying the stocks and stock complexes for which specifications are made. Salmon stocks or stock complexes may be split or combined for purposes of establishing a new harvest specification unit if such action is desirable based on the commercial importance of a stock or stock complex, or if sufficient biological information is available to manage a stock or stock complex as a single unit. Those stocks and stock complexes are separated into three tiers based on the level of information available for each stock and stock complex, and the corresponding tier is used to calculate OFL and ABC.

For each stock and stock complex, NMFS establishes harvest specifications prior to the commercial salmon fishing season. To inform the harvest specifications, NMFS prepares the annual SAFE report, based on the best scientific information available at the time it is prepared, for review by the SSC and the Council. The SAFE report provides information needed for: (1) determining annual harvest specifications; (2) documenting significant trends or changes in the stocks, marine ecosystem, and fisheries over time; and (3) assessing the performance of existing State of Alaska and Federal fishery management programs. The SAFE report provides a summary of the most recent biological condition of the salmon stocks.

For the proposed 2025 harvest specifications, NMFS prepared the preliminary 2025 SAFE report and consulted with the Council consistent with the Salmon FMP and implementing regulations. The proposed TACs recommended by the Council are based on the preliminary SAFE report, which represents the best scientific information available at that time for the stock and stock complexes identified by NMFS. In February 2025, the SSC reviewed the preliminary 2025 SAFE report and recommended changing the buffers that reduce ABCs from the OFLs for the Kenai and Kasilof sockeye stocks. Ultimately, the Council recommended the harvest specifications without any additional buffers to reduce TACs from the ABCs. The proposed TACs are consistent with the Salmon FMP process for determining harvest levels for salmon in the Cook Inlet EEZ Area. In light of the manner in which the fishery will operate—including the limited number of openers—and NMFS's ability to monitor the TAC for each salmon species and implement closures in-season, as well as NMFS's success last year in managing the fishery to ensure no ABC was exceeded, NMFS has determined that these TACs will prevent exceeding the ABC (and therefore ACL) for any stock or stock complex. Furthermore, the proposed TACs will prevent overfishing while, for combined sockeye salmon, being above the recent 10-year average estimated EEZ harvest.

Under this action, the proposed ABCs reflect harvest amounts that are less than the specified OFLs and the TACs do not exceed the biological reference points (i.e., the ABCs and OFLs) recommended by the SSC. The Salmon FMP specifies that annual TAC determinations would be made based on social and economic considerations, including the need to promote efficiency in the utilization of fishery resources (e.g., minimizing costs); the desire to conserve, protect, and rebuild depleted salmon stocks; the importance of a salmon fishery to harvesters, processors, local communities, and other salmon users in Cook Inlet; and the need to promote utilization of certain species (see 50 CFR 679.118(a)(2)(ii)). The proposed TACs are set equal to ABCs and account for these considerations. TACs cannot be set higher than the ABCs.

This action is economically beneficial to entities operating in the Cook Inlet EEZ Area salmon fishery, including small entities. The action proposes TACs for commercially-valuable salmon stocks that allow for the prosecution of the salmon fishery in the Cook Inlet EEZ Area, thereby creating the opportunity for fishery revenue. The TACs proposed for each commercially-valuable salmon stock or stock complex, except for aggregate coho, are higher than the recent ten-year average catch estimated to have been harvested in the Cook Inlet EEZ Area, which may help to reduce foregone yield and allow for additional harvest opportunity.

Based upon the best scientific information available and in consideration of the objectives for this proposed action, it appears that there are no significant alternatives to this proposed rule for salmon harvest specifications that have the potential to comply with the Salmon FMP, accomplish the stated objectives of the Magnuson-Stevens Act or any other statutes, and minimize any significant adverse economic impact of the action on small entities while preventing overfishing. After a public process during which the Council and NMFS solicited input from stakeholders and after consultation with the Council, NMFS has determined that the proposed TACs recommended by the Council would best accomplish the stated objectives articulated in the preamble for this proposed rule, and in applicable statutes, and would minimize to the extent practicable adverse economic impacts on the universe of directly regulated small entities.

This action does not modify recordkeeping or reporting requirements or duplicate, overlap, or conflict with any Federal rules.

This proposed rule contains no information collection requirements under the Paperwork Reduction Act of 1995.

Authority: 16 U.S.C. 773 et seq.; 16 U.S.C. 1540(f); 16 U.S.C. 1801 et seq.; 16 U.S.C. 3631 et seq.; Pub. L. 105-277; Pub. L. 106-31; Pub. L. 106-554; Pub. L. 108-199; Pub. L. 108-447; Pub. L. 109-241; Pub. L. 109-479.

Dated: March 31, 2025.
Samuel D. Rauch III,
Deputy Assistant Administrator for Regulatory Programs, National Marine Fisheries Service.

[FR Doc. 2025-05764 Filed 4-3-25; 8:45 am]

BILLING CODE 3510-22-P